DEPARTMENT OF TRANSPORTATION

Federal Aviation Administration

Policy Statement, Material Qualification and Equivalency for Polymer Matrix Composite Material Systems

AGENCY: Federal Aviation Administration, DOT.

ACTION: Notice of issuance of policy statement.

SUMMARY: This notice announces the issuance of policy statement PS-ACE100-2002-006, Material Qualification and Equivalency for Polymer Matrix Composite Material Systems. It enables composite material suppliers to qualify composite material to a procedure acceptable to the FAA. An airframe manufacturer can then specify this composite material to fabricate aircraft parts and perform a smaller subset of testing to substantiate their control of material and fabrication processes.

DATES: Policy statement PS-ACE100-2002-006 was issued by the Manager of the Small Airplane Directorate on September 15, 2003.

How to Obtain Copies: A paper copy of policy statement PS-ACE100-2002-006 may be obtained by contacting Mr. Lester Cheng, Small Airplane Directorate, ACE-111, 901 Locust, Kansas City, MO 64106. The policy statement will also be available on the Internet at http://www.airweb.faa.gov/Policy.

Issued in Kansas City, Missouri, on October 8, 2003.
James E. Jackson,
Acting Manager, Small Airplane Directorate, Aircraft Certification Service.

[FR Doc. 03-26558 Filed 10-21-03; 8:45 am]

BILLING CODE 4910-13-P